COMMITTEE FOR PURCHASE FROM PEOPLE WHO ARE BLIND OR SEVERELY DISABLED

Procurement List Proposed Deletions

AGENCY: Committee for Purchase From People Who Are Blind or Severely Disabled.

ACTION: Proposed Deletions from the Procurement List.

SUMMARY: The Committee is proposing to delete products previously furnished by a nonprofit agency employing persons who are blind or have other severe disabilities.

DATES: Comments must be received on or before: 8/24/2015.

ADDRESSES: Committee for Purchase From People Who Are Blind or Severely Disabled, 1401 S. Clark Street, Suite 715, Arlington, Virginia 22202-4149.

FOR FURTHER INFORMATION CONTACT: Patricia Briscoe, Telephone: (703) 603-7740, Fax: (703) 603-0655, or email CMTEFedReg@AbilityOne.gov.

SUPPLEMENTARY INFORMATION: This notice is published pursuant to 41 U.S.C. 8503 (a)(2) and 41 CFR 51-2.3. Its purpose is to provide interested persons an opportunity to submit comments on the proposed actions.

Deletions

The following products are proposed for deletion from the Procurement List:

NSN(s)—Product Name(s):

7530-00-243-9436—Card, Index, Unruled, White, 5″ x 8″

7530-00-243-9437—Card, Index, Ruled, White, 5″ x 8″

7530-00-244-7447—Card, Index, Ruled, Green, 5″ x 8″

7530-00-244-7451—Card, Index, Unruled, Buff, 4″ x 6″

7530-00-244-7453—Card, Index, Unruled, Green, 3″ x 5″

7530-00-244-7456—Card, Index, Unruled, Salmon, 3″ x 5″

7530-00-244-7459—Card, Index, Unruled, White, 4″ x 6″

7530-00-247-0310—Card, Index, Ruled, Buff, 3″ x 5″

7530-00-247-0311—Card, Index, Ruled, Buff, 5″ x 8″

7530-00-247-0315—Card, Index, Ruled, Salmon, 5″ x 8″

7530-00-247-0318—Card, Index, Ruled, White, 3″ x 5″

7530-00-264-3723—Card, Index, Ruled, White, 4″ x 6″

7530-00-949-2787—Card, Index, Unruled, Pink, 5″ x 8″

7530-00-238-4331—Card, Index, Unruled, Salmon, 5″ x 8″

Mandatory Source of Supply: Louisiana Association for the Blind, Shreveport, LA

Contracting Activity: General Services Administration, New York, NY

Patricia Briscoe,
Deputy Director, Business Operations (Pricing and Information Management).

[FR Doc. 2015-18199 Filed 7-23-15; 8:45 am]

BILLING CODE 6353-01-P